DEPARTMENT OF COMMERCE

National Oceanic and Atmospheric Administration

RIN 0648-XD896

Magnuson-Stevens Fishery Conservation and Management Act; General Provisions for Domestic Fisheries; Application for Exempted Fishing Permit

AGENCY: National Marine Fisheries Service (NMFS), National Oceanic and Atmospheric Administration (NOAA), Commerce.

ACTION: Notice; request for comments.

SUMMARY: The Regional Administrator, NMFS West Coast Region, has determined that four applications for exempted fishing permits (EFPs) warrant further consideration, and requests public comment on the applications. The applications request 2-year exemptions from various prohibitions under the Fishery Management Plan for U.S. West Coast Fisheries for Highly Migratory Species (HMS FMP) to test the effects and efficacy of using deep-set buoy gear and longline gear to fish for swordfish and other highly migratory species (HMS) off the West Coast.

DATES: Comments must be submitted in writing by June 22, 2015.

ADDRESSES: You may submit comments on this document, identified by NOAA-NMFS-2015-0063, by any of the following methods:

• Electronic Submission: Submit all electronic public comments via the Federal e-Rulemaking Portal. Go to www.regulations.gov/#!docketDetail;D=NOAA-NMFS-2015-0063, click the “Comment Now!” icon, complete the required fields, and enter or attach your comments. EFP applications will be available under Relevant Documents through the same link.

• Mail: Attn: Chris Fanning, NMFS West Coast Region, 501 W. Ocean Blvd., Suite 4200, Long Beach, CA 90802. Include the identifier “NOAA-NMFS-2015-0063” in the comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Chris Fanning, NMFS, West Coast Region, 562-980-4198.

SUPPLEMENTARY INFORMATION: On July 2, 2014, the Pacific Fishery Management Council (Council) solicited EFP proposals to test alternative gears and/or new approaches or methods for the California large-mesh drift gillnet fishery to target swordfish and other HMS. Applications for EFPs were submitted on February 9, 2015, to the Council for consideration during the March 2015 meeting (Agenda H.3, http://www.pcouncil.org/resources/archives/briefing-books/march-2015-briefing-book/#hmsMar2015). On March 20, 2015, the Council made recommendations to NMFS to consider issuing EFPs for three proposals to use deep-set buoy gear (DSBG—multiple hooks deployed relatively deep in the water column, using one or more weighted mainlines which are suspended with one or more buoys floating on the ocean surface) and a single proposal to use deep-set and shallow-set longline gear in the exclusive economic zone (EEZ) off of the West Coast of the United States. If approved, the EFPs would exempt a limited number of federally permitted commercial fishing vessels from requirements of the HMS FMP pertaining to non-authorized gear types and areas currently closed to longline fishing. The EFPs would authorize up to 11 DSBG vessels and one longline vessel to fish year-round in areas within the Federal U.S. EEZ off of the West Coast. Aside from the exemptions described above (e.g., allowing non-authorized gear types to fish and allowing longline gear within the EEZ to target swordfish), vessels fishing under an EFP would be subject to all other regulations implementing the HMS FMP, including measures to protect sea turtles, marine mammals, and seabirds. The EFP applications request issuance for 2 fishing seasons or 2 calendar years.

The Council suggested NMFS impose the following additional conditions on these EFPs (originally outlined here: http://www.pcouncil.org/wpcontent/uploads/2015/03/0315decisions.pdf):

(1) 100 percent observer coverage;

(2) prohibit fishing in waters north of the Washington/Oregon border, and in the first year prohibit fishing in waters north of the Oregon/California border;

(3) close fishing for the remainder of the year if the number of Endangered Species Act (ESA) listed species taken in the fishery is the lower of either double the amount of incidental take estimated in an ESA biological opinion prepared for that activity, or 10 animals;

(4) for those EFPs testing buoy gear, permit fishing only in Federal waters;

(5) for the EFP testing longline gear, prohibit fishing within 50 miles of the mainland shore and islands; and

(6) for the EFP testing longline gear, develop and impose an annual incidental catch limit for striped marlin. NMFS is seeking public comment on the EFP applications and the Council's recommended conditions.

In accordance with NOAA Administrative Order 216-6, appropriate National Environmental Policy Act documents will be completed prior to the issuance of the EFPs. Additionally, NMFS will consider all applicable laws, including Section 7(a)(2) of the Endangered Species Act (16 U.S.C. 1531 et seq.), to determine if the proposed action is likely to jeopardize the continued existence and recovery of any endangered or threatened species or result in the destruction or adverse modification of critical habitat.

Authority: 16 U.S.C. 1801 et seq.

Dated: May 18, 2015.
Alan D. Risenhoover,
Director, Office of Sustainable Fisheries, National Marine Fisheries Service.

[FR Doc. 2015-12411 Filed 5-21-15; 8:45 am]

BILLING CODE 3510-22-P